DEPARTMENT OF LABOR

Occupational Safety and Health Administration

[Docket No. OSHA-2007-0038]

Electrical Reliability Services, Inc. (Formerly Electro-Test, Inc.); Denial of Renewal of Recognition

AGENCY: Occupational Safety and Health Administration (OSHA), Labor.

ACTION: Notice.

SUMMARY: This notice announces the Occupational Safety and Health Administration's final decision to deny the renewal of recognition of Electrical Reliability Services, Inc. (formerly Electro-Test, Inc.) (ETI) as a Nationally Recognized Testing Laboratory under 29 CFR 1910.7.

DATES: The denial of recognition is effective on June 23, 2008.

FOR FURTHER INFORMATION CONTACT: MaryAnn Garrahan, Director, Office of Technical Programs and Coordination Activities, NRTL Program, Occupational Safety and Health Administration, U.S. Department of Labor, 200 Constitution Avenue, NW., Room N-3655, Washington, DC 20210, or phone (202) 693-2110.

SUPPLEMENTARY INFORMATION:

I. Notice of Final Decision

The Occupational Safety and Health Administration (OSHA) is giving notice of the denial of renewal of recognition of Electrical Reliability Services, Inc. (formerly Electro-Test, Inc.) (ETI) as a Nationally Recognized Testing Laboratory (NRTL). OSHA is taking this action following its requirements under Subsection I.B. of Appendix A to 29 CFR 1910.7.

OSHA recognition of an NRTL signifies that the organization has met the legal requirements in Section 1910.7 of Title 29, Code of Federal Regulations (29 CFR 1910.7), OSHA's NRTL Program regulations. Recognition is an acknowledgment that the organization can perform independent safety testing and certification of the specific products covered within its scope of recognition and is not a delegation or grant of government authority. As a result of recognition, employers may use products in the workplace that are properly approved by the NRTL to meet OSHA standards that require testing and certification.

Subsection I.B describes the procedures that OSHA must use in deciding an NRTL's application for renewal of recognition. In order to approve such an application, the NRTL must meet all of the requirements for recognition in 29 CFR 1910.7. Subsection I.B sets out the steps OSHA must follow in reviewing each renewal application and provides the NRTL opportunities to correct or respond to any perceived failures to meet the requirements.

OSHA followed the process set forth in Subsection I.B and is denying renewal of ETI as an NRTL. OSHA found that ETI's ownership by Emerson Electric Company resulted in ETI's failure to satisfy the requirement of 29 CFR 1910.7 that NRTLs be independent of the manufacturers and vendors of the products for which OSHA requires certification. This failure constitutes a cause for non-renewal under OSHA's NRTL Program regulations.

OSHA has notified ETI of its final decision to deny its application for renewal. The effective date of non-renewal is shown in the DATES section above. As of this date, the Agency no longer accepts product certifications done by ETI.

Docket No. OSHA-2007-0038 contains all public materials in the record concerning the recognition of ETI. You may obtain or review copies of these documents by contacting the Docket Office, Occupational Safety and Health Administration, U.S. Department of Labor, 200 Constitution Avenue, NW., Room N-2625, Washington, DC 20210.

Signed at Washington, DC, this 13th day of June, 2008.
Edwin G. Foulke, Jr.
Assistant Secretary of Labor for Occupational Safety and Health.

[FR Doc. E8-14072 Filed 6-20-08; 8:45 am]

BILLING CODE 4510-26-P